DEPARTMENT OF THE INTERIOR

Bureau of Land Management

[MT-912-0777-XQ]

Notice of Closing Order in the Billings Field Office; Montana

AGENCY: Bureau of Land Management, Interior.

ACTION: Notice.

SUMMARY: Bureau of Land Management Montana State Director Mat Millenbach has closed specific lands listed below effective August 17, 2000. These restrictions amend and are in addition to the Level 3 fire restrictions enacted on Friday, August 11, 2000, for all lands of the Billings Field Office and are in response to the region's increasing fire potentials, the current level of fire activity, and the current scarcity of fire suppression resources.

Pursuant to 43 Code of Federal Regulations 9212.2, the following Bureau of Land Management lands administered by the Billings Field Office in Yellowstone and Musselshell counties are closed to motorized vehicle use. These closures are in addition to restrictions enumerated in 43 Code of Federal Regulations 9212.1 and become effective as of 12:01 a.m. Mountain Daylight Time Thursday, August 17, 2000, and will remain in effect until rescinded or revoked.

Area closures | Legal description
Action | T. 3 N., R. 25 E., Sec. 5-8, 17, 20
Asparagus Point | T. 8 N., R. 27 E., Sec. 2
Shepherd Ah-Nei | T. 3 N., R. 28 E., Sec. 6
| T. 4 N., R. 27 E., Sec. 24, 25, 36
| T. 4 N., R. 28 E., Sec. 19, 20, 30, 31
South Hills | T. 1 S., R. 26 E.,
| Sec. 14: E2W2, S2SE, and that portion lying along the southeastern bank of the Yellowstone River in the E2NWNW
| Sec. 21: E2NE,SWNE,SENW
| Sec. 22: SWNE,NW,N2S2
| Sec. 23: N2NE,NENW
| Sec. 24: W2S2
| Sec. 25: NWNW
| Sec. 26: E2NE
Steamboat Butte | T. 6 N., R. 29 E., Sec. 4-5, 7-9

Exemptions

Pursuant to 43 Code of Federal Regulations 9212.2, the following persons are exempt from this order:

1. Any Federal, State, or local officer or member of an organized rescue or firefighting force in the performance of an official duty.

2. Persons with a permit or other written authorization specifically allowing the otherwise prohibited act or omission.

3. Private landowners requiring access to their lands across closed public lands.

4. Grazing permittees in the performance of activities directly related to management of their livestock.

For all persons with exemptions, driving will only be allowed on existing roads void of vegetation. All other travel by persons will be by foot or horseback.

Violation of this order is prohibited by the provisions of the regulations cited. Under 43 Code of Federal Regulations 9212.4, any violation is subject to punishment by a fine of not more than $1,000 and/or imprisonment of not more than 12 months.

DATES: Restrictions go into effect at 12:01 a.m. mountain daylight time, August 17, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: August 16, 2000.
Mat Millenbach,
State Director.

[FR Doc. 00-21309 Filed 8-17-00; 11:22 am]

BILLING CODE 4310-$$-P